DEPARTMENT OF HEALTH AND HUMAN SERVICES

Administration for Children and Families

Statement of Organization, Functions, and Delegations of Authority

This notice amends Part K of the Statement of Organization, Functions and Delegations of Authority of the Department of Health and Human Services (DHHS), Administration for Children and Families (ACF), Chapter KB, the Administration on Children, Youth and Families (ACYF), as last amended on August 27, 1991 [56 FR 42332], December 8, 1997 [62 FR 64592] and October 6, 1999 [63 FR 58742] is being reorganized to move the Office of State Systems from the Office of the Commissioner and place it in the Children's Bureau as a new Division and to establish a third Division within the Head Start Bureau. In addition, this notice revises the description of the research and evaluation activities within the Office of the Commissioner and the functions of the Divisions within the Head Start Bureau and makes other minor editorial changes.

1. Chapter KB, Administration on Children, Youth, and Families is amended as follows:

A. Delete KB.10 Organization in its entirety and replace with the following:

KB.10 Organization. The Administration on Children, Youth and Families is headed by a Commissioner, who reports directly to the Assistant Secretary for Children and Families and consists of:

Office of the Commissioner (KBA)

Office of Management Services (KBA1)

Office of Grant Management (KBA2)

Head Start Bureau (KBC)

Program Operations Division (KBC1)

Program Support Division (KBC2)

Program Management Division (KBC3)

Children's Bureau (KBD)

Office of Child Abuse and Neglect (KBD1)

Division of Policy (KBD2)

Division of Program Implementation (KBD3)

Division of Data, Research and Innovation (KBD4)

Division of Child Welfare Capacity Building (KBD5)

Division of State Systems (KBD6)

Family and Youth Services Bureau (KBE)

Child Care Bureau (KBG)

Immediate Office/Administration (KBG1)

Program Operations Division (KBG2)

Policy Division (KBG3)

Technical Assistance Division (KBG4)

B. Delete KB.20 Functions, Paragraph A, in its entirety and replace with the following:

KB.20 Functions. A. The Office of the Commissioner serves as principal advisor to the Assistant Secretary for Children and Families, the Secretary, and other officials of the Department on the sound development of children, youth, and families. It provides executive direction and management strategy to ACYF components. The Deputy Commissioner assists the Commissioner in carrying out the responsibilities of the Office.

In the immediate Office of the Commissioner, research and evaluation staff provide scientific consultation, coordination, direction, and support for research activities across the four Bureaus within ACYF. Research staff also partner with other Federal agencies and the broader research community to conduct program evaluations, develop new knowledge relevant to programs and policies implemented by ACYF, and build research capacity within the field. Additional staff perform special projects for the Office of the Commissioner. In addition to the Immediate Office, the Office of the Commissioner contains two organizational units. In support of the Commissioner and Deputy Commissioner and in consultation with ACYF programs the:

1. Office of Management Services manages the formulation and execution of the budgets for ACYF programs and for Federal administration; serves as the central control point for operational and long range planning; functions as Executive Secretariat for ACYRF, including managing correspondence, correspondance systems, and electronic mail requests; reviews and manages clearance for program announcements for ACYF, the Administration for Native Americans (ANA), and the Administration on Developmental Disabilities (ADD); plans for/coordinates the provision of staff development and training; provides support for ACYF's personnel administration, including staffing, employee and labor relations, performance management and employee recognition; manages procurement planning and provides technical assistance regarding procurement; plans for/oversees the discretionary grant paneling process; manages ACYF-controlled space and facilities; performs manpower planning and administration; plans for, acquires, distributes and controls ACYF supplies; provides mail and messenger services; maintains duplicating, fax, and computer and computer peripheral equipment; supports and manages automation within ACYF; provides for health and safety; and oversees travel, time and attendance, and other administrative functions for ACYF.

The Office of Management Services also reviews and approves formula and entitlement programs for ACYF's bureaus and ADD. It assures that all formula and entitlement awards conform with applicable statutes, regulations, and policies; computes grantee allocations; prepares formula and entitlement awards; ensures incorporation of necessary grant terms and conditions; monitors grantee expenditures; analyzes financial needs under formula and entitlement programs; provides data in support of apportionment requests; prepares reports and analyses on the grantees' use of funds; maintains liaison and coordination with appropriate ACF and HHS organizations to ensure consistency between ACF formula and entitlement grant systems and the Department's grant payment systems; and performs audit resolution activities for formula and entitlement programs.

2. Office of Grants Management provides management and technical administration for discretionary grants for ACYF, ADD, and ANA; reviews, certifies and/or signs all discretionary grants; assures that all discretionary grants awarded by ACYF, ADD, and ANA conform with applicable statutes, regulations, and policies; computes grantee allocations, prepares discretionary grant awards, ensures incorporation of necessary grant terms and conditions, and monitors grantee expenditures; analyzes financial needs under discretionary grant programs; provides data in support of apportionment requests; prepares reports and analyses on the grantees' use of funds; maintains liaison and coordination with appropriate ACF and HHS organizations to ensure consistency between ACYF, ADD, and ANA discretionary grant systems and the Department's grant payment systems; provides technical assistance to regional components on discretionary grant operations and technical grants management issues; and performs audit resolution activities for ACYF, ADD, and ANA discretionary grant programs. The Office of Grants Management coordinates and maintains liaison with the Department and other federal agencies on discretionary grants management and administration operational issues and activities.

C. Delete KB.20 Function, Paragraph C in its entirety and replace with the following:

C. The Head Start Bureau serves as the principal advisory unit to the Commissioner on issues regarding the Head Start program (including Early Head Start). It develops legislative and budgetary proposals; identifies areas for research, demonstration and developmental activities; presents operational planning objectives and initiatives relating to Head Start to the Office of the Commissioner; and oversees the progress of approved activities. It provides leadership and coordination for the activities of the Head Start program in headquarters and the regional offices. The Bureau represents Head Start in inter-agency activities with other federal and non-federal organizations.

1. Program Operations Division manages the American Indian and Alaska Natives and migrant and seasonal farmworkers Head Start programs; reviews applications for programs serving American Indian and Alaska Natives children and children of migratory and seasonal farmworkers; monitors and assesses the programs and assures provision of training and technical assistance to all Head Start programs funded for the children of American Indian and Alaska Natives and migrants and seasonal farmworkers; analyzes and ensures consideration of the needs of American Indian and Alaska Natives and migrant and seasonal farmworkers' children; and coordinates with other agencies and organizations serving American Indian and Alaska Natives and migrant and seasonal farmworkers' children.

2. Program Support Division provides technical expertise in the areas of Head Start education birth to age five, health (medical, dental, mental health and nutrition), family and community partnerships, parent involvement, and disabilities services for Head Start program staff. It recommends and establishes policy in these areas; recommends strategies for achieving quality services; and develops guidance, and other policy materials aimed at improving grantee performance.

The Division develops areas for research and demonstration activities to improve the quality and levels of services provided to Head Start children. The Division also manages discretionary projects and develops training and technical assistance strategies to improve Head Start programs' performance in specific component areas.

3. Program Management Division develops and coordinates program and administrative management regulations and policy for the Head Start program, provides guidance to the regional offices in carrying out these policies and monitors their implementation; and designs and oversees a national system for program monitoring and quality improvement. The Division develops and manages discretionary projects that are designed to investigate and improve the operation and management of the Head Start program; plans and manages training and technical assistance (T & TA) activities in Head Start; and manages national data collection and analysis for the Head Start program.

D. Delete KB.20 Function, Paragraph D in its entirety and replace with the following:

D. The Children's Bureau is headed by an Associate Commissioner who advises the Commissioner, Administration on Children, Youth and Families, on matters related to child welfare, including child abuse and neglect, child protective services, family preservation and support, adoption, foster care and independent living. It recommends legislative and budgetary proposals, operational planning system objectives and initiatives, and projects and issue areas for evaluation, research and demonstration activities. It represents ACYF in initiating and implementing interagency activities and projects affecting children and families, and provides leadership and coordination for the programs, activities, and subordinate components of the Bureau.

1. Office on Child Abuse and Neglect provides leadership and direction on the issues of child maltreatment and the prevention of abuse and neglect under the Child Abuse Prevention and Treatment Act (CAPTA). It is the focal point for interagency collaborative efforts, national conferences and special initiatives related to child abuse and neglect, and for coordinating activities related to the prevention of abuse and neglect and the protection of children at-risk. It supports activities to build networks of community-based, prevention-focused family resource and support programs through the Community-Based Family Resource and Support Program. It supports improvement in the systems which handle child abuse and neglect cases, particularly child sexual abuse and exploitation and maltreatment related fatalities, and improvement in the investigation and prosecution of these cases through the Children's Justice Act.

2. Division of Policy provides leadership and direction in policy development and interpretation under titles IV-B and IV-E of the Social Security Act, and the Basic State Grant under the Child Abuse Prevention and Treatment Act. It writes regulations and interprets policy for the Bureau's formula and entitlement grant programs, and responds to requests for policy clarification from ACF Regional Offices and a variety of other sources.

3. Division of Program Implementation provides leadership and direction in the operation and review of programs under titles IV-B and IV-E of the Social Security Act, and the Basic State Grant under the Child Abuse Prevention and Treatment Act. It develops program instructions, information memoranda, and annual reports. It analyzes State Plans and develops State profiles and other reports; participates in monitoring and reviewing State information systems to ensure the accuracy and relevancy of the data. It is responsible for the Monitoring Team, which schedules and coordinates the monitoring of State reviews and ensures effective corrective action if necessary. It works with appropriate other agencies and organizations on the implementation and oversight of relevant sections of the Indian Child Welfare Act. It is the focal point for financial issues, including disallowances, appeals, and the decisions of the Departmental Appeals Board (DAB). It responds to client and constituent correspondence received electronically and from a variety of sources.

4. Division of Data, Research and Innovation provides leadership and direction in program development, innovation, research and in the management of the Bureau's information systems under titles IV-B and IV-E of the Social Security Act, and under the Child Abuse Prevention and Treatment Act. It defines critical issues for investigation and makes recommendations regarding subject areas for research, demonstration and evaluation. It administers the Bureau's discretionary grant programs, and awards project grants to State and local agencies and organizations nationwide. It provides direction to the Crisis Nurseries and Abandoned Infants Resource Centers. It is responsible for the Data and Technology Team which analyzes and disseminates program data from the Adoption and Foster Care Analysis and Reporting System (AFCARS), and the National Child Abuse and Neglect Data System (NCANDS); develops systematic methods of measuring the impact and effectiveness of various child welfare programs; performs statistical sampling functions; provides comprehensive guidance to States, local agencies and others on data collection issues, and performance and outcome measures; and is the focal point for technology development within the Bureau.

5. Division of Child Welfare Capacity Building provides leadership and direction in the areas of training, technical assistance and information dissemination under titles IV-B and IV-E of the Social Security Act, and under the Child Abuse Prevention and Treatment Act. Either directly or through the Resource Centers, it provides training and technical assistance to assist service providers, State and local governments and tribes, and strengthen headquarters and regional office staff.

It manages section 426 discretionary training grants and title IV-E training. It directs the operations and activities of the National Center on Child Abuse and Neglect Information Clearinghouse and the National Adoption Information Clearinghouse. It identifies best practices for treating troubled families and preventing abuse and neglect. It participates in the development of grant announcements, and manages certain discretionary grant projects. It develops and issues a periodic newsletter, and is the focal point for conference and meeting planning activities for the Bureau.

6. Division of State Systems (DSS) reviews, assesses, and inspects the planning, design and operation of State management information systems and approves advanced planning documents for automated data systems. The Division provides leadership for the provision of technical assistance to States on information systems projects and advances the use of computer technology in the administration of child welfare and social services programs by States. The Division reviews, analyzes, and approves/disapproves State requests for federal financial participation for automated systems development and activities which support child welfare programs, including foster care and adoption. It provides assistance to States in developing or modifying automation plans to conform to federal requirements. It monitors approved State system development activities and conducts periodic reviews to assure State compliance with regulatory requirements applicable to automated systems supported by Federal financial participation. It provides guidance to States on functional requirements for these automated information systems. It promotes interstate transfer of existing automated systems and provides assistance and guidance to improve ACYF's programs through the use of automated systems.

Dated: May 30, 2001.
James A. Harrell,
Acting Commissioner, Administration on Children, Youth and Families.

[FR Doc. 01-14058 Filed 6-4-01; 8:45 am]

BILLING CODE 4184-01-M